DEPARTMENT OF COMMERCE

Office of the Secretary

Agency Information Collection Activities; Submission to the Office of Management and Budget (OMB) Review and Approval; Comment Request; Challenge and Prize Competition Solicitations Generic Clearance

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 20, 2023 during a 60-day comment period. This notice allows for an additional 30 days for public comments.

Agency: Office of the Secretary, Commerce.

Title: Challenge and Prize Competition Solicitations Generic Clearance.

OMB Control Number: 0690-0031.

Form Number(s): None.

Type of Request: Regular submission [Extension of a current information collection].

Number of Respondents: 2100.

Average Hours per Response: 10-30 minutes.

Burden Hours: 1050.

Needs and Uses: The information collected will be for the following purposes: verify data sources, understand whether the solution provider has met the technical requirements for the challenge, has completed the challenge to the specifications of the challenge parameters, to assist in technical review and judging of the solutions that are provided. In addition, the information can be used to determine if valid methodology, appropriate approvals for use of data sources, and other resources used in the solution development are valid.

Affected Public: Individuals or Households, Businesses or for-profit organizations, State, Local or Tribal Government, etc.

Frequency: One-time.

Respondent's Obligation: Voluntary.

Legal Authority: 15 U.S.C. 3701 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0690-0031.

Sheleen Dumas,
Department PRA Clearance Officer, Office of the Under Secretary for Economic Affairs, Commerce Department.

[FR Doc. 2023-17953 Filed 8-18-23; 8:45 am]

BILLING CODE 3510-13-P